DEPARTMENT OF THE INTERIOR

National Park Service

[NPS-WASO-NRNHL-20719; PPWOCRADI0, PCU00RP14.R50000]

National Register of Historic Places; Notification of Pending Nominations and Related Actions

AGENCY: National Park Service, Interior.

ACTION: Notice.

SUMMARY: The National Park Service is soliciting comments on the significance of properties nominated before March 26, 2016, for listing or related actions in the National Register of Historic Places.

DATES: Comments should be submitted by May 2, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before March 26, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

San Luis Obispo County

Monday Club of San Luis Obispo, 1815 Monterey St., San Luis Obispo, 16000230

GEORGIA

Bibb County

Ingleside Historic District, Roughly bounded by Vineville Ave., Candler Dr., Bonita Pl., High Point Rd., and Forest Hill Rd., Macon, 16000231

MICHIGAN

Emmet County

Douglas, James and Jean, House, 3490 S. Lake Shore Dr., Friendship Township, 16000232

MISSOURI

Jackson County

Campbell—Continental Baking Company Building, 1108 E. 30th St., Kansas City, 16000235

Murdock, C.A., Manufacturing Company Building, (Railroad Related Historic Commercial and Industrial Resources in Kansas City, MO MPS), 1225-1227 Union Avenue, Kansas City, 16000234

Traders National Bank Building, 1125 Grand Blvd., Kansas City, 16000233

PUERTO RICO

San German Municipality

Observation Tower, (New Deal Era Constructions in the Forest Reserves in Puerto Rico), PR 120, KM 14, Cain Alto Ward, San German, 16000236

San Juan Municipality

Edificio Comunidad de Orgullo Gay de Puerto Rico, (New Deal Era Constructions in the Forest Reserves in Puerto Rico), 3 Saldana St., San Juan, 16000237

WEST VIRGINIA

Jefferson County

Harpers Ferry National Historical Park (Boundary Increase), Address Restricted, Harpers Ferry, 16000238

WISCONSIN

Ashland County

Bass Island Brownstone Company Quarry (Boundary Increase), Bass Island, LaPointe, 16000241

Clark County

Woodland Hotel, 207 N. Central Ave., Owen, 16000240

Milwaukee County

Dover Street School and Social Center, 619 E. Dover St., Milwaukee, 16000239

In the interest of preservation, a three day comment period has been requested for the following resource:

NEW YORK

New York County

Julius' Bar, 188 Waverly Place, New York, 16000242

Authority: 60.13 of 36 CFR part 60.

Dated: March 28, 2016.
J. Paul Loether,
Chief, National Register of Historic Places/National Historic Landmarks Program.

[FR Doc. 2016-08694 Filed 4-14-16; 8:45 am]

BILLING CODE 4312-51-P